ENVIRONMENTAL PROTECTION AGENCY

[FRL-9909-69-Region-4; EPA-R04-OW-2013-0745]

Public Water System Supervision Program Revision for the State of Alabama

AGENCY: Environmental Protection Agency (EPA).

ACTION: Notice of tentative approval.

SUMMARY: Notice is hereby given that the State of Alabama is revising its approved Public Water System Supervision Program. Alabama has adopted the following rule: Ground Water Rule. The EPA has determined that Alabama's rule is no less stringent than the corresponding federal regulation. Therefore, the EPA is tentatively approving this revision to the State of Alabama's Public Water System Supervision Program.

DATES: Any interested person may request a public hearing. A request for a public hearing must be submitted by May 19, 2014, to the Regional Administrator at the EPA Region 4 address shown below. The Regional Administrator may deny frivolous or insubstantial requests for a hearing. However, if a substantial request for a public hearing is made by May 19, 2014, a public hearing will be held. If no timely and appropriate request for a hearing is received and the Regional Administrator does not elect to hold a hearing on her own motion, this tentative approval shall become final and effective on May 19, 2014. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8:30 a.m. and 4:30 p.m., Monday through Friday, at the following offices: Alabama Department of Environmental Management, Water Division, 1400 Coliseum Boulevard, Montgomery, Alabama 36110; and the U.S. Environmental Protection Agency, Region 4, Safe Drinking Water Branch, 61 Forsyth Street SW., Atlanta, Georgia 30303.

FOR FURTHER INFORMATION CONTACT: Robert Burns, EPA Region 4, Safe Drinking Water Branch, by mail at the Atlanta address given above, by telephone at (404) 562-9456, or by email at burns.robert@epa.gov.

EPA Analysis: On February 5, 2013, the State of Alabama submitted a request that the Region approve a revision to the State's Safe Drinking Water Act Public Water System Supervision Program to include the authority to implement and enforce the Ground Water Rule. For the revision to be approved, the EPA must find the State Rules, contained within ADEM Administrative Code Division 335-7, to be no less stringent than the Federal Rules, codified at 40 CFR part 141, Subpart S—Ground Water Rule. The EPA reviewed the application using the Federal statutory provisions (Section 1413 of the Safe Drinking Water Act), Federal regulations (at 40 CFR part 142), State regulations, rule crosswalks, and the EPA regulatory guidance to determine whether the request for revision is approvable. The EPA determined that the Alabama revision is no less stringent than the corresponding Federal regulation.

EPA Action: The EPA is tentatively approving this revision. If the EPA does not receive a timely and appropriate request for a hearing and the Regional Administrator does not elect to hold a hearing on her own motion, this tentative approval will become final and effective on May 19, 2014.

Authority: Section 1413 of the Safe Drinking Water Act, as amended (1996), and 40 CFR part 142.

Dated: March 26, 2014.
A. Stanley Meiburg,
Acting Regional Administrator, Region 4.

[FR Doc. 2014-08889 Filed 4-17-14; 8:45 am]

BILLING CODE 6560-50-P